DEPARTMENT OF THE INTERIOR

Fish and Wildlife Service

[Docket No. FWS-R8-ES-2022-0019; FF08ESMF00-FXES11140800000-223]

Maricopa Sun Solar Complex Habitat Conservation Plan, Kern County, California; Environmental Assessment

AGENCY: Fish and Wildlife Service, Interior.

ACTION: Notice of availability of documents; request for public comment.

SUMMARY: We, the U.S. Fish and Wildlife Service, announce receipt of an application from Maricopa Sun, LLC to amend their existing incidental take permit for the Maricopa Sun Solar Complex. Under the Endangered Species Act and National Environmental Policy Act, we are making available the applicant's draft amended habitat conservation plan and our draft environmental assessment. We invite the public and local, State, Tribal, and Federal agencies to comment on the documents. Before issuing a requested amended permit, we will take into consideration any information that we receive during the public comment period.

DATES: We must receive your written comments on or before July 21, 2022.

ADDRESSES:

Obtaining Documents: The incidental take permit application, draft environmental assessment (EA), draft amended habitat conservation plan (HCP), and any comments and other materials that we receive are available for public inspection at https://www.regulations.gov in Docket No. FWS-R8-ES-2022-0019.

Submitting Comments: To send written comments, please use one of the following methods, and note that your information requests or comments are in reference to the draft EA, draft HCP, or both.

• Internet: Submit comments at https://www.regulations.gov under Docket No. FWS-R8-ES-2022-0019.

• U.S. Mail: Public Comments Processing, Attn: Docket No. FWS-R8-ES-2022-0019; U.S. Fish and Wildlife Service Headquarters, MS: PERMA; 5275 Leesburg Pike; Falls Church, VA 22041-3803.

For more information, see Public Comments under SUPPLEMENTARY INFORMATION.

FOR FURTHER INFORMATION CONTACT: Justin Sloan, Senior Wildlife Biologist, or Patricia Cole, Supervisor, San Joaquin Valley Division, Sacramento Fish and Wildlife Office, by phone at 916-414-6600. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce receipt of an application from Maricopa Sun, LLC to amend their existing incidental take permit (TE54164B-0) for the Maricopa Sun Solar Complex. Maricopa Sun, LLC is requesting an amendment to extend the permit term from 35 to 50 years, add Kern mallow (Eremalche kernensis) as a covered species, reduce the habitat conservation plan (HCP) area by removing 489.9 acres (ac) of potential solar development, and add the installation and operation of battery energy storage systems as covered activities. The amended HCP would encompass 5,318.4 ac.

We also make available the draft environmental assessment (EA), prepared pursuant to the National Environmental Policy Act of 1969, as amended (NEPA; 42 U.S.C. 4321 et seq.), and its implementing regulations in the Code of Federal Regulations (CFR) at 40 CFR 1506.6. The draft EA evaluates the impacts of the proposed action and the no-action alternative. The draft EA tiers from the analysis within the final environmental impact statement issued by the Service and announced via a Federal Register notice to the public on December 8, 2014 (79 FR 72696).

Background Information

Section 9 of the ESA (16 U.S.C. 1531-1544 et seq.) and Federal regulations (50 CFR 17) prohibit the taking of fish and wildlife species listed as endangered or threatened under section 4 of the ESA. The definition of “take” under the ESA does not apply to plant species; however, plant species can be listed on the Federal permit as covered species in recognition of the conservation measures provided for them under the HCP, and in order to receive “No Surprises” regulatory assurances under the Federal permit. Regulations governing permits for endangered and threatened species are at 50 CFR 17.22 and 17.32, respectively. For more about the Federal habitat conservation plan (HCP) program, go to https://www.fws.gov/service/habitat-conservation-plans

National Environmental Policy Act Compliance

The proposed issuance of a permit amendment triggers the need for compliance with the National Environmental Policy Act of 1969, as amended (NEPA; 42 U.S.C. 4321 et seq.). The draft EA was prepared to analyze the impacts of issuing an amended ITP based on the draft amended HCP; to inform the public of the proposed action, any alternatives, and associated impacts; and to disclose any irreversible commitments of resources. The draft EA tiers from the analysis within the final environmental impact statement issued by the Service and noticed to the public on December 8, 2014 (79 FR 72696).

Proposed Action

The proposed action includes amendments to the existing permit and HCP to include:

1. The addition of Kern mallow to the five species that are covered by the HCP and permit, and inclusion of additional species-specific minimization measures.

2. An extension of the permit term from 35 years to 50 years.

3. The removal of 489.9 ac of potential solar site development area that would reduce the permit area to 5,318.4 ac.

4. The inclusion of the installation and operation of battery energy storage systems as part of the project.

Public Comments

We request data, comments, new information, or suggestions from the public, other concerned governmental agencies, the scientific community, Tribes, industry, or any other interested party on this notice, the draft EA, and the draft amended HCP. We particularly seek comments on the following:

1. Biological information concerning the species;

2. Relevant data concerning the species;

3. Additional information concerning the range, distribution, population size, and population trends of the species;

4. Current or planned activities in the area and their possible impacts on the species;

5. The presence of archeological sites, buildings and structures, historic events, sacred and traditional areas, and other historic preservation concerns, which are required to be considered in project planning by the National Historic Preservation Act; and

6. Any other environmental issues that should be considered with regard to the proposed development and permit action.

Public Availability of Comments

Before including your address, phone number, or other personal identifying information in your comment, you should be aware that your entire comment—including your personal identifying information—might be made publicly available at any time. While you can ask us in your comment to withhold your personal identifying information from public review, we cannot guarantee that we will be able to do so.

Authority

We publish this notice under the National Environmental Policy Act of 1969, as amended (42 U.S.C. 4321-4347 et seq.), and its implementing regulations at 40 CFR 1500-1508, as well as in compliance with section 10(c) of the Endangered Species Act (16 U.S.C. 1531-1544 et seq.) and its implementing regulations at 50 CFR 17.22.

Michael Fris,
Field Supervisor, Sacramento Fish and Wildlife Office.

[FR Doc. 2022-13205 Filed 6-17-22; 8:45 am]

BILLING CODE 4333-15-P